DEPARTMENT OF TRANSPORTATION

Federal Aviation Administration

Informal Airspace Workshop; Proposed Instrument Procedures to Runway 24, Ted Stevens Anchorage International Airport, Anchorage, AK

AGENCY: Federal Aviation Administration (FAA), DOT.

ACTION: Notice of public workshop.

SUMMARY: The FAA intends to hold two informal airspace workshops to solicit comments regarding operational and environmental concerns from airspace users and others concerning traffic flows for aircraft operating to Runway 24R and Runway 24L at Ted Stevens Anchorage International Airport (ANC). The workshops will be presented on January 20 and January 22, 2004. The purpose of these workshops is to provide interested parties an opportunity to comment on the proposed conversion of a random flight track into a published Charted Visual Flight Procedure (CVFP) to Runway 24R and Runway 24L.

Date/Time: The first workshop will be from 6 p.m. to 9 p.m., Tuesday, January 20, 2004.

Place: Multi-Purpose Room, Spenard Community Recreation Center, 2020 West 48th Avenue, Anchorage, Alaska; telephone: (907) 343-4160.

Date/Time: The second workshop will be from 7 p.m. to 9 p.m., Thursday, January 22, 2004.

Place: Auditorium room 127, University of Alaska Anchorage, Aviation Technology Division, 2811 Merrill Field Drive, Anchorage, Alaska; telephone: (907) 264-7400.

Public Comments: The FAA actively solicits public comments. Comments may be presented at the workshop or submitted afterwards via letter, fax, or email. Comments should be received on or before February 23, 2004, to be included as part of the workshop.

FOR FURTHER INFORMATION CONTACT: Robert van Haastert, Operations Branch, AAL-535, Federal Aviation Administration, 222 West 7th Avenue, Box 14, Anchorage, AK 99513-7587; telephone number (907) 271-5863; fax: (907) 271-2850; email: robert.van-haastert@faa.gov.

SUPPLEMENTARY INFORMATION:

History and Background

Due to mountainous terrain within ten miles east of the ANC, there are no instrument approaches to Runways 24R or 24L. When wind conditions dictate the use of these runways, the only option available for Instrument Flight Rules (IFR) arrivals is a visual approach. Since aircraft on a visual approach are not restricted to a specific route and since high minimum vectoring altitudes prohibit giving subsequent aircraft an extended downwind leg, excessive spacing must be used to ensure aircraft separation.

The establishment of the CVFPs to Runways 24R and 24L would keep aircraft as close to ANC as possible and within Class C airspace to avoid the Seward Highway Segment by heavily used Visual Flight Rules (VFR) aircraft.

The fleet mix and number of aircraft into ANC would not change. The percentage of time Runway 24 would be utilized would also not change. Additionally, the CVFPs would result in a slight average increase in aircraft altitudes over the proposed flight track.

Workshop Agenda

This workshop is intended to involve the community in our decision making process. The workshop will be set up in an open house fashion with stations attended by FAA representatives. These stations are intended to provide information and collect comments on the development of new Charted Visual Flight Procedures for Runway 24R and Runway 24L.

Workshop Procedures

(a) The workshop will be informal in nature and will be conducted by representatives of the FAA Alaskan Region.

(b) The workshop will be open to all persons on a space-available basis. Every effort was made to provide a workshop site with sufficient capacity for expected participation. There will be no admission fee nor other charges to attend and participate.

(c) Representatives of Ted Stevens Anchorage International Airport Traffic Control Tower and Anchorage Terminal Radar Approach Control will be present to discuss procedural concepts. FAA Air Traffic Division representatives will be present to discuss environmental concerns.

(d) Any person who wishes to submit a position paper to FAA representatives pertinent to the establishment of Charted Visual Flight Procedures may do so.

(e) The workshop will not be formally recorded. However, informal tape recordings may be made to ensure that each respondent's comments are noted accurately.

(f) An official verbatim transcript or minutes of the informal airspace workshop will not be made. However, a list of the attendees, written statements received from attendees during and after the workshop and a digest of discussions during the workshop will be included in the administrative record for the project.

(g) Every reasonable effort will be made to hear the concerns of interested persons consistent with a reasonable closing time for the workshop.

Issued in Anchorage, AK, on December 12, 2003.
Trent S. Cummings,
Manager, Air Traffic Division, Alaskan Region.

[FR Doc. 03-31245 Filed 12-18-03; 8:45 am]

BILLING CODE 4910-13-M